DEPARTMENT OF JUSTICE

Notice of Lodging of Proposed Consent Decree Under the Clean Air Act

On July 17, 2024, the Department of Justice lodged a proposed consent decree with the United States District Court for the District of Arizona in the lawsuit entitled United States v. Lupton Petroleum Products, Inc. and Brad Hall & Associates, Inc., Civil Action No. 3:24-cv-08144-GMS.

The United States filed this lawsuit under the Clean Air Act. The United States' complaint seeks injunctive relief and civil penalties for violations of the regulations that govern the production and sale of fuels relating to fuels produced by Defendant Lupton Petroleum, Inc. at a transmix processing facility in Lupton, Arizona. The consent decree requires Lupton Petroleum, Inc. to perform injunctive relief, and requires the Defendants to jointly pay a $1,000,729 civil penalty.

The publication of this notice opens a period for public comment on the consent decree. Comments should be addressed to the Assistant Attorney General, Environment and Natural Resources Division, and should refer to United States v. Lupton Petroleum Products, Inc. and Brad Hall & Associates, Inc., D.J. Ref. No. 90-5-2-1-12134. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. If you require assistance accessing the consent decree, you may request assistance by email or by mail to the addresses provided above for submitting comments.

Scott D. Bauer,
Assistant Section Chief, Environmental Enforcement Section, Environment and Natural Resources Division.

[FR Doc. 2024-16605 Filed 7-26-24; 8:45 am]

BILLING CODE 4410-15-P